DEPARTMENT OF JUSTICE

Antitrust Division

Notice Pursuant to the National Cooperative Research and Production Act of 1993—OpenGMSL Association

Notice is hereby given that, on December 11, 2025, pursuant to section 6(a) of the National Cooperative Research and Production Act of 1993, 15 U.S.C. 4301 et seq. (“the Act”), OpenGMSL Association (“OpenGMSL”) has filed written notifications simultaneously with the Attorney General and the Federal Trade Commission disclosing changes in its membership. The notifications were filed for the purpose of extending the Act's provisions limiting the recovery of antitrust plaintiffs to actual damages under specified circumstances.

Specifically, AnaPass, Inc., Seoul, REPUBLIC OF KOREA; Axonne, Inc., San Jose, CA; BitifEye Digital Test Solutions GmbH, Boblingen, FEDERAL REPUBLIC OF GERMANY; Garmin International Inc., Olathe, KS; Geely Automobile Research Institute, Zhejiang, PEOPLE'S REPUBLIC OF CHINA; Honda Motor Co., Ltd., Tochigi, JAPAN; Jasmin Infotech Private Limited, Chennai, REPUBLIC OF INDIA; KNiulink Semiconductor Ltd., Shenzhen, PEOPLE'S REPUBLIC OF CHINA; Meritech Integrated Circuits Co., Ltd., Beijing, PEOPLE'S REPUBLIC OF CHINA; Onelink Inc., Allex, TX; and Teledyne LeCroy, Inc., Chestnut Ridge, NY have been added as parties to this venture.

No other changes have been made in either the membership or planned activity of the group research project. Membership in this group research project remains open and OpenGMSL intends to file additional written notifications disclosing all changes in membership.

On June 30, 2025, OpenGMSL filed its original notification pursuant to section 6(a) of the Act. The Department of Justice published a notice in the Federal Register pursuant to section 6(b) of the Act on August 13, 2025 (90 FR 38998).

The last notification was filed with the Department of Justice on September 22, 2025. The Department of Justice published a notice in the Federal Register pursuant to section 6(b) of the Act on October 3, 2025 (90 FR 48058).

Suzanne Morris,
Deputy Director Civil Enforcement Operations, Antitrust Division.

[FR Doc. 2026-01445 Filed 1-23-26; 8:45 am]

BILLING CODE; P